DEPARTMENT OF TRANSPORTATION

Federal Highway Administration

Federal Transit Administration

Environmental Impact Statement: Denver, Boulder, Broomfield, Adams, Larimer and Weld Counties, Colorado

AGENCY: Federal Highway Administration (FHWA) and Federal Transit Administration (FTA), Department of Transportation (DOT).

ACTION: Notice of intent to prepare an environmental impact statement.

SUMMARY: FHWA and FTA are issuing this notice to advise the public that an environmental impact statement/Section 4(f) Evaluation will be prepared for transportation improvements in the Counties of Denver, Boulder, Broomfield, Adams, Larimer and Weld.

ADDRESSES: Written comments on the project scope should be sent to David Martinez, Resident Engineer, Colorado Department of Transportation, Region 4, 2207 East Highway 402, Loveland, CO 80537, Telephone: (907) 667-4670, extension 5119.

FOR FURTHER INFORMATION CONTACT: Jean Wallace, Operations/Pavement Engineer, FHWA, Colorado Division, 555 Zang Street, Room 250, Lakewood, CO 80228, Telephone: (303) 969-6730, extension 382. John Dow, Community Planner, FTA, 216 16th Street Mall, Suite 650, Denver, CO 80202, Telephone: (303) 844-3243. David Martinez, Resident Engineer, Colorado Department of Transportation, Region 4. 2207 East Highway 402, Loveland, CO 80537, Telephone: (907) 667-4670, extension 5119.

SUPPLEMENTARY INFORMATION:

I. Description of Corridor and Transportation Needs

The FHWA and FTA, in cooperation with the Colorado Department of Transportation (CDOT), will prepare an environmental impact statement (EIS/Section 4(f) Evaluation in accordance with the National Environmental Policy Act (NEPA) for transportation improvements between Denver and Fort Collins, Colorado. Improvements between Denver and Fort Collins are considered necessary to provide for existing and projected travel demand, improve safety, replace aging infrastructure and accommodate multiple modes of transportation. These problems were identified in past studies and long-range transportation plans, including the North Front Range Transportation Alternatives Feasibility Study.

II. Alternatives

Alternatives under consideration include (1) Taking no action; (2) improvements to the existing highway network, particularly interstate 25, but perhaps also US 85 and US 287; (3) transit options including bus and rail technologies; and (4) constructing a highway on a new location. Incorporated into and studied with the various build alternatives will be design variations of grade and alignment, interchange improvements or new interchanges, and transit station and maintenance facility locations.

III. Issues To Be Studied

FHWA and FTA will evaluate social, economic and environmental impacts of the various alternatives. Factors to be evaluated include transportation service including future corridor capacity, transit ridership and costs, community impacts such as land use, right of way needs, noise, neighborhood compatibility and aesthetics and resource impacts including impacts to historic and archaeological resources, air quality, wetlands, water quality and threatened or endangered species.

IV. Scoping

Project scoping will be accomplished through coordination with affected parties, stakeholders, organizations, Federal, State and local agencies; agency scoping meetings; and through public meetings in the project corridor. Meetings will be held as follows(:)

Greeley—February 3, 2004, 4 p.m. to 7 p.m., Greeley Recreation Center, 651 10th Avenue, Greeley, CO.

Tri-Towns Area—February 5, 2004, 4 p.m. to 7 p.m., Southwest Weld County Services Building, 4209 Weld County Rd 24, ½ (one-half mile north of the intersection of I-25 and Colorado Highway 119).

Fort Collins—February 10, 2004, 4 p.m. to 7 p.m., Fort Collins Lincoln Center, 417 W. Magnolia, Fort Collins, CO.

A scoping information packet will be available at these meetings or by contacting CDOT at the address above.

Information on the time and place of the public scoping meetings will also be provided in local newspapers.

To ensure that the full range of issues related to this proposed action are addressed and all significant issues identified, comments and suggestions are invited from all interested parties. Comments or questions concerning this proposed action and the EIS should be directed to the FHWA, FTA or Colorado Department of Transportation at the addresses provided above. Interested individuals, organizations, or agencies may propose the consideration of an additional, specific alternative or the study of a specific environmental effect associated with an alternative.

(Catalog of Federal Domestic Assistance Program Number 20.205, Highway Planning and Construction. The regulations implementing Executive Order 12372 regarding intergovernmental consultation on Federal programs and activities apply to this program.)
Issued on: December 22, 2003.
William C. Jones,
Division Administrator, Colorado Division, Federal Highway Administration, Lakewood, Colorado.
Lee O. Waddleton,
Regional Administrator, Federal Transit Administration, Denver, Colorado.

[FR Doc. 03-31979 Filed 12-30-03; 8:45 am]

BILLING CODE 4910-22-M